DEPARTMENT OF COMMERCE

National Oceanic and Atmospheric Administration

RIN 0648-XG786

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Acting Assistant Regional Administrator for Sustainable Fisheries, Greater Atlantic Region, NMFS, has made a preliminary determination that an exempted fishing permit application contains all of the required information and warrants further consideration. This permit would allow Coonamessett Farm Foundation to test the selectivity of alternate gillnet configurations to target haddock while reducing catch of other groundfish species.

Regulations under the Magnuson-Stevens Fishery Conservation and Management Act require publication of this notification to provide interested parties the opportunity to comment on applications for proposed exempted fishing permits.

DATES: Comments must be received on or before March 4, 2019.

ADDRESSES: You may submit written comments by any of the following methods:

• Email: NMFS.GAR.EFP@noaa.gov. Include in the subject line “Comments on Testing Selectivity and Raised Webbing Gillnets on Target and Non-Target Species in the Northeast Haddock Fishery.”

• Mail: Michael Pentony, Regional Administrator, NMFS, Greater Atlantic Regional Fisheries Office, 55 Great Republic Drive, Gloucester, MA 01930. Mark the outside of the envelope “Comments on Testing Selectivity of Alternative Gillnet Configurations in the Northeast Haddock Fishery.”

FOR FURTHER INFORMATION CONTACT: Kyle Molton, Fishery Management Specialist, 978-281-9236, Kyle.Molton@noaa.gov.

SUPPLEMENTARY INFORMATION: Coonamessett Farm Foundation (CFF) submitted a complete application for an exempted fishing permit (EFP) on November 7, 2018, to conduct commercial fishing activities that the regulations would otherwise restrict. The application is a renewal of an EFP originally issued in December 2017. The EFP would authorize five vessels to test alternative gillnet configurations for haddock and to temporarily retain undersized catch for measurement and data collection. The applicant has requested exemptions from minimum mesh size regulations at 50 CFR 648.80(a)(4)(iv) and § 648.8(b)(2)(iv), and the prohibition on possessing groundfish below the minimum size § 648.83(a). These exemptions are necessary because vessels on commercial groundfish trips are prohibited from using gillnets with mesh size less than 6.5 inches (16.51 cm) and from retaining undersized groundfish. The applicant is also requesting a new exemption from the Closed Area I North Georges Bank Spawning Groundfish Closure at § 648.81(c)(3), which we do not intend to approve, as further described below.

The project titled “Testing Selectivity and Raised Webbing Gillnets on Target and Non-Target Species in the Northeast Haddock Fishery” would continue to be conducted by CFF. The study would take place on Georges Bank and in southern New England from February 2019 through August 2019, with the five participating vessels fishing no more than 19 trips. Vessels would fish a maximum of 32 gillnets, each 300 feet (91.44 m) long, in strings made up of 4 nets each. Two of the nets in each four-net string would use standard 6.5-inch (16.51-cm) mesh and two would be 6.0-inch (15.24-cm) mesh. One net of each mesh size in each string would be rigged with a 30-inch (76.2-cm) raised webbing section along the bottom. Two to three hauls of the nets are expected during each day at sea with an average soak time of 6 hours for each set.

A CFF researcher or technician would accompany all trips that occur under this EFP to identify all fish caught, as well as measure and weigh catch. Undersized fish would be discarded as quickly as possible after sampling. All Northeast multispecies of legal size would be landed, and all catch (including discards) would be attributed to the vessel's sector annual catch entitlement, consistent with standard catch accounting procedures.

We do not intend to approve the applicant's request to allow access to the seasonal Closed Area I North Georges Bank Spawning Groundfish Closure because of potential negative impacts to spawning groundfish. CFF requested access to the area because it is an area identified to have a high abundance of haddock during the closure period. CFF states that having access to this area would allow for a higher likelihood of achieving statistically significant results. CFF further stated in their application that impacts to the resource from access would be reduced because the gear being tested is hypothesized to reduce bycatch of demersal species, including cod. Despite these considerations, we are concerned that, if access were granted, disruption of spawning activity and significant catch of spawning fish could lead to negative groundfish impacts and undermine the benefits this newly approved closure is intended to provide. Studies have shown that gillnet fishing activity can disrupt groundfish spawning behavior and could reduce the reproductive success of spawning aggregations. Further, we are concerned that the condition and behavior of spawning fish may influence their selectivity in gillnet gear. Because of the significant biomass of haddock on Georges Bank, and the relatively small area and season of the closure, access to the closure is not necessary to test the viability of alternative gillnet configurations targeting haddock on Georges Bank.

If approved, the applicant may request minor modifications and extensions to the EFP throughout the year. EFP modifications and extensions may be granted without further notice if they are deemed essential to facilitate completion of the proposed research and have minimal impacts that do not change the scope or impact of the initially approved EFP request.

Authority: 16 U.S.C. 1801 et seq.

Dated: February 12, 2019.
Karen H. Abrams,
Acting Director, Office of Sustainable Fisheries, National Marine Fisheries Service.

[FR Doc. 2019-02522 Filed 2-14-19; 8:45 am]

BILLING CODE 3510-22-P